DEPARTMENT OF HOMELAND SECURITY

U.S. Citizenship and Immigration Services

[CIS No. 2273-03]

Direct Mail Program for Submitting Form I-485, Application To Register Permanent Resident or Adjust Status; Form I-765, Application for Employment Authorization; and Form I-131, Application for Travel Document; Correction

AGENCY: U.S. Citizenship and Immigration Services, Department of Homeland Security.

ACTION: Notice of correction.

SUMMARY: U.S. Citizenship and Immigration Services (USCIS) is correcting a notice that was published in the Federal Register on November 19, 2004, at 69 FR 67751 which announced the expansion of the Direct Mail Program to provide that certain filings of Forms I-485, I-765, and I-131, be filed at a designated Chicago, Illinois lockbox facility for initial processing. In the supplementary information to the notice, USCIS inadvertently advised aliens applying for adjustment of status as special immigrants under section 101(a)(27)(I) of the Immigration and Nationality Act (Act) (i.e. certain officers and employees of international organizations and their eligible family members) to submit their Form I-485 to the lockbox facility. Accordingly, USCIS is issuing this correction to remove this category of aliens from the listing. In addition, the notice directed all aliens applying for work authorization through a grant of deferred action (8 CFR 274a.12(c)(14)) to submit their Forms I-765 to the Chicago lockbox facility. The adjudications for Forms I-765 filed by aliens who have been granted deferred action based upon (1) an approved Form I-360 (as a battered spouse or child of a U.S. citizen or lawful permanent resident), (2) a pending bona fide application for T nonimmigrant status (Form I-914), or (3) U nonimmigrant status interim relief were centralized at the Vermont Service Center. Accordingly, the notice is being corrected to exempt those three classes of aliens from filing their Forms I-765 with the Chicago lockbox facility.

DATES: This correction is effective December 28, 2004.

FOR FURTHER INFORMATION CONTACT: S. Rebecca Watson, Lockbox Project Manager, U.S. Citizenship and Immigration Services, Department of Homeland Security, 20 Massachusetts Avenue, NW., Room 1000, Washington, DC 20529, Telephone (202) 272-1001.

SUPPLEMENTARY INFORMATION:

Notice for Correction

As published in the Federal Register on November 19, 2004 (69 FR 67751), the notice contains two errors that are in need of correction.

Correction of Publication

Accordingly, the publication on November 19, 2004 (69 FR 67751), of the notice that was the subject of FR Doc. 04-25679 is corrected as follows:

1. On page 67752, in the first column, in the eighth bullet, the reference to “Aliens described as special immigrants under sections 101(a)(27)(J), (K), and (I) of the Act” is corrected to read: “Aliens described as special immigrants under sections 101(a)(27)(J) and (K), of the Act''

2. On page 67752, in the middle column, in the fifth bullet, the reference to “(c)(14)—Aliens granted deferred action;” is corrected to read: “(c)(14)—Aliens granted deferred action, except those aliens who have been granted deferred action based upon (1) an approved Form I-360 (as a battered spouse or child of a U.S. citizen or lawful permanent resident), (2) a pending bona fide application for T nonimmigrant status, or (3) U nonimmigrant status interim relief;''

Dated: December 22, 2004.
Richard A. Sloan,
Director, Regulatory Management Division, U.S. Citizenship and Immigration Services.

[FR Doc. 04-28299 Filed 12-27-04; 8:45 am]

BILLING CODE 4410-10-P